DEPARTMENT OF ENERGY

Notice of Availability of a Notice of Intent and Request for Information Regarding the Establishment of a Program To Use the Defense Production Act

AGENCY: Office of Manufacturing and Energy Supply Chains, Department of Energy.

ACTION: Notice of availability of a notice of intent (NOI) and request for information (RFI).

SUMMARY: The U.S. Department of Energy (DOE) announces the notice of availability (NOA) of a notice of intent and request for information on DOE's support of domestic manufacturing of electric heat pumps using Title III of the Defense Production Act (DPA). DOE invites public comment on the RFI regarding the application process, examples of eligible projects, potential funding sizes required, and criteria for qualification and selection of eligible projects to participate in the electric heat pumps DPA program.

DATES: Responses will be reviewed and considered on a rolling basis but are due no later than 5 p.m. (ET) on December 2nd, 2022.

ADDRESSES: Interested parties are to submit comments electronically to dpaheatpump@energy.gov and include “NOI/RFI: Heat Pump Defense Production Act” in the subject line. Email attachments can be provided as a Microsoft Word (.docx) file or an Adobe PDF (.pdf) file, prepared in accordance with the instructions in the RFI. Attachments with file sizes exceeding 25MB should be compressed (i.e., zipped) to ensure message delivery; however, no email shall exceed a total of 45MB, including all attachments. The complete RFI document is located at https://www.energy.gov/mesc/defense-production-act-request-information. Please refer to the Disclaimer and Important Note section at the end of the RFI on how to submit business sensitive and/or confidential information.

FOR FURTHER INFORMATION CONTACT: Requests for additional information and questions about the NOI and RFI may be addressed to Tsisilile Igogo at (240) 278-5471 or dpaheatpump@energy.gov.

SUPPLEMENTARY INFORMATION: In June 2022, President Biden issued five determinations under the DPA, including a presidential determination to allow DOE to use its delegated DPA authorities to expand the domestic production capability for electric heat pumps.¹ In early October 2022, DOE issued a RFI to determine how best to leverage the authority invoked by President Biden to accelerate domestic production of four of the five technologies that received Presidential Determinations under title III of DPA.² This joint NOI and RFI focuses on electric heat pumps, the fifth technology that received a Presidential Determination.

¹ www.whitehouse.gov/briefing-room/presidential-actions/2022/06/06/memorandum-on-presidential-determination-pursuant-to-section-303-of-the-defense-production-act-of-1950-as-amended-on-electric-heat-pumps/.

² www.energy.gov/mesc/defense-production-act-request-information.

U.S. manufacturing output of electric heat pumps, which include ground-source and air-source heat pumps as well as both space heating and water heating equipment, is not yet at the rate or volume needed to fully achieve U.S. climate and energy security goals. Buildings, homes, offices, schools, hospitals, military bases, and other critical facilities drive more than 40% of all U.S. energy consumption. U.S. energy supplies are largely dependent on fossil fuels that remain susceptible to geopolitical impacts from nations that are not U.S. strategic partners or allies.

Section 30001 of the Inflation Reduction Act (IRA) appropriated $500 million to carry out the DPA, and $250 million of that amount was allocated to the Department of Energy for title III of the DPA to support the growth of manufacturing needed to meet the anticipated growing demand for electric heat pumps. DPA resources could help scale up U.S. heating, ventilation, and air conditioning (HVAC) and water heating (WH) manufacturing, accelerate installation of high-efficiency electric heat pumps in homes, qualified buildings, and industrial settings, and complement investment coming through other BIL and IRA provisions.

This NOI describes the proposed funding approach to eligible entities in the electric heat pump industry, including the proposed electric heat pump solicitation process, program structure and criteria. Through this RFI, DOE seeks comment on the application process, examples of eligible projects, potential funding sizes required, and criteria for qualification and selection of eligible projects to participate in the electric heat pumps DPA program. This NOI and RFI are available at: https://www.energy.gov/mesc/defense-production-act-request-information.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority: This document of the Department of Energy was signed on November 1, 2022, by Kathleen Hogan, Principal Deputy Under Secretary for Infrastructure, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 2, 2022.
Treena V. Garrett,
Federal Register Liaison Officer, U.S. Department of Energy.

[FR Doc. 2022-24291 Filed 11-7-22; 8:45 am]

BILLING CODE 6450-01-P